DEPARTMENT OF ENERGY

10 CFR Part 430

[EERE-2016-BT-TP-0011]

RIN 1904-AD95

Energy Conservation Program: Test Procedures for Residential and Commercial Clothes Washers; Correction

AGENCY: Office of Energy Efficiency and Renewable Energy, Department of Energy.

ACTION: Correcting amendments.

SUMMARY: On June 1, 2022, the U.S. Department of Energy (“DOE” or “the Department”) published a final rule amending DOE's clothes washer test procedures. This document corrects formatting and typographical errors and omissions in the regulatory text of that final rule. Neither the errors and omissions nor the corrections in this document affect the substance of the rulemaking or any conclusions reached in support of the final rule.

DATES: Effective December 23, 2022.

FOR FURTHER INFORMATION CONTACT: Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Ms. Melanie Lampton, U.S. Department of Energy, Office of the General Counsel, GC-33, 1000 Independence Avenue SW, Washington, DC 20585-0121. Telephone: (240) 751-5157. Email: Melanie.Lampton@hq.doe.gov.

SUPPLEMENTARY INFORMATION:

I. Background

On June 1, 2022, DOE published a final rule amending DOE's clothes washer test procedures (“June 2022 Final Rule”). 87 FR 33316. The June 2022 Final Rule amended provisions in DOE's test procedure prescribed at title 10 of the Code of Federal Regulations (“CFR”) part 430, subpart B, appendix J2 (“appendix J2”); established a new test procedure at 10 CFR part 430, subpart B, appendix J (“appendix J”); and amended provisions in DOE's test method for measuring the moisture absorption and retention characteristics of new lots of energy test cloth, which is used in testing clothes washers, at 10 CFR part 430, subpart B, appendix J3 (“appendix J3”). DOE is issuing this rule to correct certain technical errors and omissions in the June 2022 Final Rule, specifically appendices J, J2, and J3 of 10 CFR part 430, and to assist regulated entities with compliance efforts.

II. Discussion

As established in the June 2022 Final Rule, section 4 of appendix J defines the four energy components (HET, MET, DET, and ETLP) ¹ comprising the energy efficiency metric. For clothes washers with multiple water fill control systems, each of these four components yields a different result for each type of water fill control system and therefore must be calculated separately for each control type and then averaged, with the average value used for the final calculations in section 4, as directed by section 3.2.3.5 of appendix J. Specifically, section 3.2.3.5 of appendix J specifies that if a clothes washer allows user selection among multiple water fill control systems, all water fill control systems must be tested and, for each one, each energy consumption and water consumption value as set forth in section 4 of appendix J must be calculated and averaged across the water fill control systems. The average value is then used in the final calculations in section 4 of appendix J. But, in the June 2022 Final Rule, the Department inadvertently omitted ETLP from the list of variables used to calculate energy consumption in section 3.2.3.5 of appendix J. DOE is correcting that omission by adding ETLP to the parenthetical list of energy consumption parameters in section 3.2.3.5 of appendix J.

¹ HET is the total weighted per-cycle hot water energy consumption, MET is the total weighted per-cycle machine electrical energy consumption, DET is the per-cycle energy consumption for removal of moisture content from test load, and ETLP is the per-cycle combined low-power mode.

In the June 2022 Final Rule, DOE made a typographical error in section 3.3 of appendix J, stating that testing is to be performed “on each wash/rinse temperature selection available in the energy test cycle was [sic] defined in section 2.12.1 of this appendix.” 87 FR 33390. In this document, DOE corrects the word “was” to “as” in section 3.3 of appendix J.

In the June 2022 Final Rule, DOE expanded Table 5.1 of appendix J2; however, the expanded table did not re-print with the two established notes ² at the end of the table. 87 FR 33402-33403. These two notes have been incorporated in Table 5.1 since the table's inclusion in appendix J2. Additionally, DOE did not propose their removal during the rulemaking process. The regulatory instruction provided for this amendment in the June 2022 Final Rule resulted in the inadvertent removal of the notes from Table 5.1 of appendix J2. This document corrects the omission by adding the two notes at end of the revised table.

² Two notes indicate that (1) all test load weights are bone-dry weights; and (2) allowable tolerance on the test load weights is ±0.10 lbs (0.05 kg).

In the regulatory text of the June 2022 Final Rule, the title and the column headings of new Table 8.7 of appendix J3 were mis-printed. The title of Table 8.7 inadvertently included an extra line break before the variable name provided in parentheses, i.e., “(RMCstandard).” To simplify the table heading, DOE is removing the variable name in parentheses in the title of Table 8.7. Additionally, the column headers for Table 8.7 list the water soak temperature and the spin times used to develop the values presented in the table. In the regulatory text of the June 2022 Final Rule, the spin time column headers were listed in the wrong order. 87 FR 33405. This document corrects the order of the headings in Table 8.7 of appendix J3.

Because this final rule simply corrects errors and omissions in the text without making substantive changes, the changes addressed in this document are technical in nature.

III. Procedural Issues and Regulatory Review

DOE has concluded that the determinations made pursuant to the various procedural requirements applicable to the June 2022 Final Rule remain unchanged for this final rule's technical corrections. These determinations are set forth in the June 2022 Final Rule and are adopted here. 87 FR 33316, 33375-33379.

Pursuant to the Administrative Procedure Act, 5 U.S.C. 553(b), DOE finds that there is good cause to not issue a separate notice to solicit public comment on those technical corrections contained in this document. Issuing a separate notice to solicit public comment would be impracticable, unnecessary, and contrary to the public interest. As explained above, the corrections in this document do not affect the substance of the June 2022 Final Rule or any of the conclusions reached in support of the final rule. Additionally, given the final rule is a product of an extensive administrative record with numerous opportunities for public comment, DOE finds additional comment on the technical corrections is unnecessary. Therefore, providing prior notice and an opportunity for public comment on correcting objective, typographical errors and omissions that do not change the substance of the test procedure serves no useful purpose.

Further, this rule correcting typographical errors and omissions makes non-substantive changes to the test procedure in the June 2022 Final Rule. As such, this final rule is not subject to the 30-day delay in effective date requirement of 5 U.S.C. 553(d) otherwise applicable to rules that make substantive changes.

List of Subjects in 10 CFR Part 430

Administrative practice and procedure, Confidential business information, Energy conservation, Household appliances, Imports, Intergovernmental relations, Small businesses.

Signing Authority

This document of the Department of Energy was signed on December 16, 2022, by Francisco Alejandro Moreno, Acting Assistant Secretary for Energy Efficiency and Renewable Energy, U.S. Department of Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 19, 2022.
Treena V. Garrett,
Federal Register Liaison Officer, U.S. Department of Energy.

For the reasons stated in the preamble, DOE corrects part 430 of chapter II, subchapter D, of title 10 of the Code of Federal Regulations by making the following correcting amendments:

PART 430—ENERGY CONSERVATION PROGRAM FOR CONSUMER PRODUCTS

1. The authority citation for part 430 continues to read as follows:

Authority: 42 U.S.C. 6291-6309; 28 U.S.C. 2461 note.

2. Appendix J to subpart B of part 430 is amended by:

a. Revising section 3.2.3.5; and

b. In section 3.3, in the first sentence, removing the words “was defined” and adding in their place “as defined”.

The revision reads as follows:

Appendix J to Subpart B of Part 430—Uniform Test Method for Measuring the Energy Consumption of Automatic and Semi-Automatic Clothes Washers

* * * * *

3. * * *

3.2.3.5 Clothes washers with multiple water fill control systems. If a clothes washer allows user selection among multiple water fill control systems, test all water fill control systems and, for each one, calculate the energy consumption (HET, MET, DET, and ETLP) and water consumption (QT) values as set forth in section 4 of this appendix. Then, calculate the average of the tested values (one from each water fill control system) for each variable (HET, MET, DET, ETLP, and QT) and use the average value for each variable in the final calculations in section 4 of this appendix.

* * * * *

3. Appendix J2 to subpart B of part 430 is amended by adding notes 1 and 2 following Table 5.1 in section 5 to read as follows:

Appendix J2 to Subpart B of Part 430—Uniform Test Method for Measuring the Energy Consumption of Automatic and Semi-Automatic Clothes Washers

* * * * *

5. * * *

Table 5.1—Test Load Sizes

* * * * *

Notes: (1) All test load weights are bone-dry weights.

(2) Allowable tolerance on the test load weights is ±0.10 lbs (0.05 kg).

4. Appendix J3 to subpart B of part 430 is amended by revising Table 8.7 in section 8.7 to read as follows:

Appendix J3 to Subpart B of Part 430—Energy Test Cloth Specifications and Procedures for Determining Correction Coefficients of New Energy Test Cloth Lots

* * * * *

8. * * *

Table 8.7—Standard RMC Values
“g Force” | RMC percentage: Warm soak: 15 min. spin (percent) | RMC percentage: Warm soak: 4 min. spin (percent) | RMC percentage: Cold soak: 15 min. spin (percent) | RMC percentage: Cold soak: 4 min. spin (percent)
100 | 45.9 | 49.9 | 49.7 | 52.8
200 | 35.7 | 40.4 | 37.9 | 43.1
350 | 29.6 | 33.1 | 30.7 | 35.8
500 | 24.2 | 28.7 | 25.5 | 30.0
650 | 23.0 | 26.4 | 24.1 | 28.0

* * * * *

[FR Doc. 2022-27877 Filed 12-22-22; 8:45 am]

BILLING CODE 6450-01-P